DEPARTMENT OF AGRICULTURE

Food Safety and Inspection Service

[Docket No. FSIS-2013-0014]

Codex Alimentarius Commission: Meeting of the Codex Committee on Residues of Veterinary Drugs in Food

AGENCY: Office of the Under Secretary for Food Safety, USDA.

ACTION: Notice of public meeting and request for comments.

SUMMARY: The Office of the Under Secretary for Food Safety, U.S. Department of Agriculture (USDA), and the Food and Drug Administration (FDA) are sponsoring a public meeting on August 5, 2013. The objective of the public meeting is to provide information and receive public comments on agenda items and draft United States positions that will be discussed at the 21st Session of the Codex Committee on Residues of Veterinary Drugs in Foods (CCRVDF) of the Codex Alimentarius Commission (Codex), which will be held in Minneapolis, Minnesota from August 26-30, 2013. The Under Secretary for Food Safety and the Food and Drug Administration recognize the importance of providing interested parties the opportunity to obtain background information on the 21st Session of CCRVDF, and to address items on the agenda.

DATES: The public meeting is scheduled for Monday, August 5, 2013 from 1:00-4:00 p.m.

ADDRESSES: The public meeting will be held at the Jamie L. Whitten Building, United States Department of Agriculture, 1400 Independence Ave. Room 107-A, Washington, DC 20250. Documents related to the 21st Session of CCRVDF will be accessible via the World Wide Web at the following address: http://www.codexalimentarius.org/meetings-reports/en/.

Kevin Greenlees, U.S. Delegate to the 21st Session of the CCRVDF, invites U.S. interested parties to submit their comments electronically to the following email address: Kevin.Greenlees@fda.hhs.gov.

Call-In Number: If you wish to participate in the public meeting for the 21st Session of the CCRVDF by conference call, please use the call-in number and participant code listed below:

Call-in Number: 1-888-858-2144.

Participant code: 6208658.

For Further Information About the 21st Session of the CCRVDF Contact: Kevin Greenlees, Senior Advisor for Science and Policy, Office of New Animal Drug Evaluation, HFV-100, Food and Drug Administration, Center for Veterinary Medicine, 7520 Standish Place, Rockville, MD 20855, Telephone: (240) 276-8214, Fax: (240) 276-9538, Email: Kevin.Greenlees@fda.hhs.gov.

For Further Information About the Public Meeting Contact: Kenneth Lowery, U.S. Codex Office, 1400 Independence Ave. SW., Room 4861, Washington, DC 20250, Telephone: (202) 690-4042, Fax: (202) 720-3157, Email: Kenneth.Lowery@fsis.usda.gov.

SUPPLEMENTARY INFORMATION:

Background

The Codex Alimentarius (Codex) was established in 1963 by two United Nations organizations, the Food and Agriculture Organization and the World Health Organization. Through adoption of food standards, codes of practice, and other guidelines developed by its committees, and by promoting their adoption and implementation by governments, Codex seeks to protect the health of consumers and ensure fair practices in the food trade.

The CCRVDF is responsible for determining priorities for the consideration of residues of veterinary drugs in foods, recommending maximum levels of such substances; developing codes of practice as may be required, and considering methods of sampling and analysis for the determination of veterinary drug residues in foods.

The Committee is hosted by the United States of America.

Issues To Be Discussed at the Public Meeting

The following items on the Agenda for the 21st Session of the CCRVDF will be discussed during the public meeting:

• Matters referred by the Codex Alimentarius Commission and other Codex Committees and Task Forces

• Matters arising from FAO/WHO and from the Joint FAO/WHO Expert Committee on Food Additives (JECFA)

• Report on World Organization for Animal Health (OIE) activities, including the harmonization of technical requirements for registration of veterinary medicinal products (VICH)

• Draft Maximum Residue Limits (MRLs) for veterinary drugs (at Step 6)

• Proposed draft MRLs for veterinary drugs (at Step 4)

• Risk Management Recommendations for Residues of Veterinary Drugs for which no ADI and/or MRLs has been recommended by JECFA due to Specific Human Health Concerns

• Proposed draft guidelines on performance characteristics for multi-residue methods

• Risk Analysis Policy on Extrapolation of MRLs of Veterinary Drugs to Additional Species and Tissues

• Proposed “concern form” for the CCRVDF (format and policy procedure for its use)

• Draft priority list of veterinary drugs requiring evaluation or re-evaluation by JECFA

• Database on countries' needs for MRLs

• Discussion paper on Guidelines on the Establishment of MRLs or other Limits in Honey

• Other business and future work

Each issue listed will be fully described in documents distributed, or to be distributed, by the Secretariat prior to the Meeting. Members of the public may access or request copies of these documents (see ADDRESSES).

Public Meeting

At the August 5, 2013 public meeting, draft U.S. positions on the agenda items will be described and discussed, and attendees will have the opportunity to pose questions and offer comments. Written comments may be offered at the meeting or sent to the U.S. Delegate for the 21st session of the CCRVDF, Kevin Greenlees (see ADDRESSES). Written comments should state that they relate to activities of the 21st session of the CCRVDF.

Additional Public Notification

FSIS will announce this notice online through the FSIS Web page located at http://www.fsis.usda.gov/regulations_&_policies/Federal_Register_Notices/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/News_&_Events/Email_Subscription/. Options range from recalls to export information to regulations, directives, and notices. Customers can add or delete subscriptions themselves, and have the option to password protect their accounts.

USDA Nondiscrimination Statement

The U.S. Department of Agriculture (USDA) prohibits discrimination in all its programs and activities on the basis of race, color, national origin, gender, religion, age, disability, political beliefs, sexual orientation, and marital or family status. (Not all prohibited bases apply to all programs.)

Persons with disabilities who require alternative means for communication of program information (Braille, large print, audiotape, etc.) should contact USDA's Target Center at 202-720-2600 (voice and TTY).

To file a written complaint of discrimination, write USDA, Office of the Assistant Secretary for Civil Rights, 1400 Independence Avenue SW., Washington, DC 20250-9410 or call 202-720-5964 (voice and TTY). USDA is an equal opportunity provider and employer.

Done at Washington, DC, on: June 14, 2013.
Mary Frances Lowe,
U.S. Manager for Codex Alimentarius.

[FR Doc. 2013-14659 Filed 6-19-13; 8:45 am]

BILLING CODE 3410-DM-P